DEPARTMENT OF HEALTH AND HUMAN SERVICES

National Institutes of Health

Center for Scientific Review; Amended Notice of Meeting

Notice is hereby given of a change in the meeting of the Center for Scientific Review Special Emphasis Panel, February 27, 2014, 01:00 p.m. to February 27, 2014, 04:30 p.m., National Institutes of Health, 6701 Rockledge Drive, Bethesda, MD, 20892 which was published in the Federal Register on February 6, 2014, 79 FR 7219.

The meeting will be held on March 11, 2014. The location and time remain the same. The meeting is closed to the public.

Dated: February 12, 2014.
David Clary,
Program Analyst, Office of Federal Advisory Committee Policy.

[FR Doc. 2014-03660 Filed 2-19-14; 8:45 am]

BILLING CODE 4140-01-P